DEPARTMENT OF TRANSPORTATION

National Highway Traffic Safety Administration

[Docket No. NHTSA-2007-28735; Notice 2]

Mazda North American Operations, Grant of Petition for Decision of Inconsequential Noncompliance

Mazda North American Operations (Mazda) has determined that an unspecified quantity of replacement seat belt assemblies that it delivered prior to June 25, 2007 did not comply with paragraphs S4.1(k) and S4.1(l) of 49 CFR 571.209, Federal Motor Vehicle Safety Standard (FMVSS) No. 209 Seat Belt Assemblies. Mazda has filed an appropriate report pursuant to 49 CFR Part 573, Defect and Noncompliance Responsibility and Reports.

Pursuant to 49 U.S.C. 30118(d) and 30120(h) and the rule implementing those provisions at 49 CFR Part 556, Mazda has petitioned for an exemption from the notification and remedy requirements of 49 U.S.C. Chapter 301 on the basis that this noncompliance is inconsequential to motor vehicle safety. Notice of receipt of the petition was published, with a 30-day public comment period, on October 4, 2007 in the Federal Register (72 FR 56826). No comments were received. To view the petition and all supporting documents log onto the Federal Docket Management System (FDMS) Web site at: http://www.regulations.gov/. Then follow the online search instructions to locate docket number “NHTSA-2007-28735.”

For further information on this decision, contact Ms. Claudia Covell, Office of Vehicle Safety Compliance, the National Highway Traffic Safety Administration (NHTSA), telephone (202) 366-5293, facsimile (202) 366-7002.

Paragraphs S4.1(k) and S4.1(l) of FMVSS No. 209 require:

(k) Installation instructions. A seat belt assembly, other than a seat belt assembly installed in a motor vehicle by an automobile manufacturer, shall be accompanied by an instruction sheet providing sufficient information for installing the assembly in a motor vehicle. The installation instructions shall state whether the assembly is for universal installation or for installation only in specifically stated motor vehicles, and shall include at least those items specified in SAE Recommended Practice J800c, “Motor Vehicle Seat Belt Installations,” November 1973. If the assembly is for use only in specifically stated motor vehicles, the assembly shall either be permanently and legibly marked or labeled with the following statement, or the instruction sheet shall include the following statement:

This seat belt assembly is for use only in [insert specific seating position(s), e.g., “front right”] in [insert specific vehicle make(s) and model(s)].

(l) Usage and maintenance instructions. A seat belt assembly or retractor shall be accompanied by written instructions for the proper use of the assembly, stressing particularly the importance of wearing the assembly snugly and properly located on the body, and on the maintenance of the assembly and periodic inspection of all components. The instructions shall show the proper manner of threading webbing in the hardware of seat belt assemblies in which the webbing is not permanently fastened. Instructions for a nonlocking retractor shall include a caution that the webbing must be fully extended from the retractor during use of the seat belt assembly unless the retractor is attached to the free end of webbing which is not subjected to any tension during restraint of an occupant by the assembly. Instructions for Type 2a shoulder belt shall include a warning that the shoulder belt is not to be used without a lap belt.

Mazda's Data, Views, and Arguments

Mazda explains that three possible situations apply to the subject replacement seat belt assemblies.

In the first instance, the seat belt assembly instruction sheets included with the replacement assemblies appropriate for Mazda B-series pickup trucks and Mazda Navajo multipurpose passenger vehicles only identified the assemblies as applicable to the Ford Ranger pickup trucks or Ford Explorer multipurpose passenger vehicles, respectively. Although other information provided was accurate for the Mazda vehicles, the incorrect vehicle reference fails to comply with S4.1(k) of the standard.

Second, replacement seat belt assemblies produced for use in the following vehicles did not include either the installation instructions or the instructions for the proper use and maintenance of the replacement seat belt assemblies. This fails to comply with both paragraph S4.1(k) and paragraph S4.1(l) of the standard:

1992-1995 MY Mazda 929, delivered from 1991 to 2007

1990-2002 MY Mazda 626, delivered from 1989 to 2007

1994-1995 MY Mazda MX-3, delivered from 1993 to 2007

1994-2007 MY Mazda MX-5, delivered from 1993 to 2007

1988-1997 MY Mazda MX-6, delivered from 1987 to 2007

1993-1995 MY Mazda RX-7, delivered from 1992 to 2007

1999-2003 MY Mazda Protege, delivered from 1998 to 2007

2001-2008 MY Mazda Tribute, delivered from 2000 to 2007

2004-2007 MY Mazda Mazda6, delivered from 2003 to 2007

2006-2007 MY Mazda 5, delivered from 2005 to 2007

2007 MY Mazda CX-9, delivered from 2006 to 2007

2007 MY Mazda B-Series Truck, delivered from 2006 to 2007

And finally, all remaining replacement seat belt assemblies produced for use in the United States and its territories did not include the instructions for the proper use and maintenance of the replacement seat belt assemblies. This fails to comply with S4.1(l) of the standard.

Mazda makes the argument that the Mazda parts ordering system used by Mazda dealers clearly identifies the correct service seat belt components for any given model/model year seat position combination. The parts are unique to each belt and are designed to assemble properly only in their intended application. When ordering Mazda replacement seat belt parts, the dealer must refer to the Mazda parts catalog to identify the ordering part number with the information on the specific vehicle model type, location and model year. Each replacement seat belt assembly is packaged individually with a specific part number label to ensure shipping the correct parts. Then, the dealer routinely checks to confirm that the part received matches the one ordered. Given the ordering system and process, the dealers could select, order, and obtain the correct parts. Also, installation instructions for seat belts are readily available in the Mazda workshop manuals and on the internet. Therefore, the seat belt parts can be successfully installed with the information already available even though installation instructions did not accompany the replacement seat belt assemblies.

Mazda further argues that since the instruction for proper use and maintenance is described in the owner's manual which is installed in the vehicle, incorrect usage and maintenance by the vehicle owner is highly unlikely.

Mazda is not aware of any customer or field reports of service seat belt assemblies being incorrectly installed in the subject applications as a result of installation instructions not accompanying the service part.

Mazda also stated that it is not aware of any reports requesting installation instructions, which it believed to be related to the noncompliances.

Upon discovery of the subject noncompliance, Mazda took action to ensure that all replacement seat belt assemblies shipped in the future are packaged with the required installation instructions. Mazda has also corrected all the replacement seat belt assemblies in the inventory for shipment to dealers.

In summation, Mazda states that it has corrected the problem that caused these errors so that they will not be repeated in future production and that it believes that because the noncompliances are inconsequential to motor vehicle safety that no corrective action is warranted.

NHTSA Decision

To help ensure proper selection, installation, usage, and maintenance of seat belt assemblies, paragraph S4.1(k) of FMVSS No. 209 requires that installation, usage, and maintenance instructions be provided with seat belt assemblies, other than those installed by an automobile manufacturer.

First, NHTSA believes that installers who receive seat belt assemblies having instructions that reference an incorrect vehicle will either return the part, determine that the part is correct for the appropriate Mazda vehicle based on the specific part number label located on the seat belt assembly, or install the part in the vehicle listed on the accompanying instruction sheet. In any of these scenarios, the assembly will be installed in the correct vehicle and seating position resulting in no safety risk.

Second, we note that the subject seat belt assemblies are only made available to Mazda authorized dealerships for their use or subsequent resale. Because the parts ordering process used by Mazda authorized dealerships clearly identifies the correct service part required by model year, model, and seating position, NHTSA believes that there is little likelihood that an inappropriate seat belt assembly will be provided for a specific seating position within a Mazda vehicle.

Third, we note that technicians at Mazda dealerships have access to the seat belt assembly installation instruction information in workshop manuals. In addition, installers other than Mazda dealership technicians can access the installation instructions on the Internet. We also believe that Mazda is correct in stating that the seat belt assemblies are designed to assemble properly only in their intended application. Thus, we conclude that sufficient safeguards are in place to prevent the installation of an improper seat belt assembly.

NHTSA recognizes the importance of having installation instructions available to installers and use and maintenance instructions available to consumers. The risk created by this noncompliance is that someone who purchased an assembly is unable to obtain the necessary installation information resulting in an incorrectly installed seat belt assembly. However, because the seat belt assemblies are designed to be assembled properly only in their intended application and the installation information is widely available to the public, it appears that there is little likelihood that installers will not be able to access the installation instructions. Furthermore, we note that Mazda has stated that they are not aware of any customer or field reports of service seat belt assemblies being incorrectly installed in the subject applications, nor aware of any reports requesting installation instructions. These findings suggest that it is unlikely that seat belts have been improperly installed.

In addition, although 49 CFR Part 571.209 paragraph S4.1(k) requires certain instructions specified in SAE Recommended Practice J800c be included in seat belt replacement instructions, that requirement applies to seat belts intended to be installed in seating positions where seat belts do not already exist. The subject seat belt assemblies are only intended to be used for replacement of original equipment seat belts, therefore the instructions do not apply to the subject seat belt assemblies.¹

¹ Subaru of America, Inc.; Grant of Application for Decision of Inconsequential Non-Compliance (65 FR 67472).

With respect to seat belt usage and inspection instructions, we note that this information is available in the owner's manual which is installed in the vehicle. Thus, with respect to usage and maintenance instructions, it appears that Mazda has met the intent of S4.1(l) of FMVSS No. 209 for the subject vehicles using alternate methods for notification.

NHTSA has granted similar petitions for noncompliance with seat belt assembly installation and usage instruction standards. Refer to Subaru of America, Inc. (65 FR 67471, November 9, 2000); Bombardier Motor Corporation of America, Inc. (65 FR 60238, October 10, 2000); TRW, Inc. (58 FR 7171, February 4, 1993); and Chrysler Corporation, (57 FR 45865, October 5, 1992). In all of these cases, the petitioners demonstrated that the noncompliant seat belt assemblies were properly installed, and due to their respective replacement parts ordering systems, improper replacement seat belt assembly selection and installation would not be likely to occur.

In consideration of the foregoing, NHTSA has decided that Mazda has met its burden of persuasion that the installation and usage instruction noncompliances described are inconsequential to motor vehicle safety. Accordingly, Mazda's application is granted, and it is exempted from providing the notification of noncompliance that is required by 49 U.S.C. 30118, and from remedying the noncompliance, as required by 49 U.S.C. 30120. All products manufactured or sold on and after June 26, 2007, must comply fully with the requirements of FMVSS No. 209.

Authority: 49 U.S.C. 30118, 30120; delegations of authority at 49 CFR 1.50 and 501.8.

Issued on: February 26, 2008.
Daniel C. Smith,
Associate Administrator for Enforcement.

[FR Doc. E8-4012 Filed 2-29-08; 8:45 am]

BILLING CODE 4910-59-P